DEPARTMENT OF TRANSPORTATION

Office of the Secretary

Notice of Applications for Certificates of Public Convenience and Necessity and Foreign Air Carrier Permits Filed Under Subpart B (Formerly Subpart Q) During the Week Ending December 20, 2008

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0390.

Date Filed: December 18, 2008.

Due Date for Answers, Conforming Applications, or Motion to Modify Scope: January 8, 2009.

Description: Application of Aerovias de Integracion Regional, AIRES S.A. (“AIRES”) requesting a foreign air carrier permit and exemption authority to engage in scheduled transportation of persons, property and mail between Bogota, Cartagena, and Barranguilla in Colombia, on the one hand, and Fort Lauderdale, Florida and New York (JFK), on the other hand.

Docket Number: DOT-OST-2008-0391.

Date Filed: December 19, 2008.

Due Date for Answers, Conforming Applications, or Motion to Modify Scope: January 9, 2009.

Description:Application of Spirit Airlines, Inc., requesting an exemption and a certificate of public convenience and necessity authorizing it to provide scheduled foreign air transportation of persons, property and mail between Fort Lauderdale, Florida and Armenia, Colombia.

Renee V. Wright,
Program Manager, Docket Operations, Federal Register Liaison.

[FR Doc. E9-939 Filed 1-15-09; 8:45 am]

BILLING CODE 4910-9X-P